NATIONAL FOUNDATION FOR THE ARTS AND THE HUMANITIES

Notice of Proposed Information Collection: IMLS Museum Web Database: MuseumsCount.gov

AGENCY: Institute of Museum and Library Services, National Foundation for the Arts and the Humanities.

ACTION: Notice, request for comments, collection of information.

SUMMARY: The Institute of Museum and Library Services (IMLS), as part of its continuing effort to reduce paperwork and respondent burden, conducts a preclearance consultation program to provide the general public and federal agencies with an opportunity to comment on proposed and/or continuing collections of information in accordance with the Paperwork Reduction Act (44 U.S.C. chapter 35). This pre-clearance consultation program helps to ensure that requested data can be provided in the desired format, reporting burden (time and financial resources) is minimized, collection instruments are clearly understood, and the impact of collection requirements on respondents can be properly assessed. By this notice, IMLS is soliciting comments concerning a primary reference source of reliable, comprehensive data on the museum sector and to provide the public, policy makers, researchers and the museum field itself with quality data for strategic decision-making.

A copy of the proposed information collection request can be obtained by contacting the individual listed below in the ADDRESSES section of this notice.

DATES: Written comments must be submitted to the office listed in the ADDRESSES section below on or before November 2, 2011. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Kim Miller, Management Analyst, Institute of Museum and Library Services, 1800 M St., NW., Washington, DC 20036. Telephone: 202-653-4762, Fax: 202-653-4600 or by e-mail at kmiller@imls.gov or by teletype (TTY/TDD) for persons with hearing difficulty at 202/653-4614.

SUPPLEMENTARY INFORMATION:

I. Background

The Institute of Museum and Library Services (IMLS) is an independent Federal grant-making agency and is the primary source of Federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. Chapter 72, 20 U.S.C. 9108)

II. Current Actions

The purpose of the information collection is to develop a searchable museum portal for use by museums, libraries, museum and library professionals, IMLS, policy makers, researchers, and the general public. Information such as name, address, phone, e-mail, Web site, congressional district, and geographic location would be collected. The proposed information collection, which is the subject of this notice, would establish a comprehensive, reliable database about the size, distribution and scope of the museum sector in the U.S.

Agency: Institute of Museum and Library Services.

Title: IMLS Museum Web Database, MuseumsCount.gov.

OMB Number: To be determined.

Agency Number: 3137.

Frequency: Annually.

Affected Public: General public, museums, museum professional associations, museum professionals, and museum organizations associated with Indian Tribes (including any Alaska native village, regional corporation, or village corporation), and organizations that primarily serve and represent Native Hawaiians.

Number of Respondents: To be determined.

Estimated Time per Respondent: To be determined.

Total Burden Hours: To be determined.

Total Annualized Capital/Startup Costs: To be determined.

Total Annual Costs: To be determined.

FOR FURTHER INFORMATION CONTACT: Kim Miller, Management Analysis, Institute of Museum and Library Services, 1800 M Street, NW., 9th Floor, Washington, DC 20036. Telephone: 202/653-4762. E-mail: kmiller@imls.gov.

Dated: August 29, 2011.
Kim A. Miller,
Management Analyst, Institute of Museum & Library Services.

[FR Doc. 2011-22480 Filed 9-1-11; 8:45 am]

BILLING CODE 7036-01-P